DEPARTMENT OF HOUSING AND URBAN DEVELOPMENT

[Docket No. FR-4630-FA-29]

Announcement of Funding Awards for the Indian Community Development Block Grant (ICDBG) Program for Fiscal Year 2001

AGENCY: Office of Native American Programs, HUD.

ACTION: Announcement of funding awards.

SUMMARY: In accordance with section 102(a)(4)(C) of the Department of Housing and Urban Development Reform Act of 1989, this announcement notifies the public of funding decisions made by the Department in a competition for funding under the Fiscal Year 2001 Notice of Funding Availability (NOFA) for the Indian Community Development Block Grant (ICDBG) Program. This announcement contains the consolidated names and addresses of this years award recipients under the ICDBG.

FOR FURTHER INFORMATION CONTACT: For questions concerning the Indian Community Development Block Grant Program awards, contact the Area Office of Native American Programs serving your area or Jackie Kruszek, Office of Native Programs, Denver Program Office, 1999 Broadway, Suite 3390, Denver, CO 80202, telephone (303) 675-1600 (this is not a toll-free number). Hearing or speech-impaired individuals may access this number via TTY by calling the toll-free Federal Information Relay Service at 1-800-877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2001 awards announced in this Notice were selected for funding in a competition announced in a NOFA published in the Federal Register on February 26, 2001 (66 FR 11709). Applications were scored and selected for funding based on the selection criteria in that Notice and Area Office of Native American Programs (ONAPs) geographic jurisdictional competitions.

The amount appropriated in FY 2001 to fund the ICDBG was $70,843,800 million. Two million of this amount was retained to fund imminent threat grants in FY 2001. Including $440,861 in unused funds from the amount reserved by the Assistant Secretary in FY 2000 for imminent threat grants, a total of $69,284,661 were available to fund single purpose ICDBG grants. The allocations for the Area ONAP geographic jurisdictions are as follows:

Eastern/Woodlands | $5,481,761
Southern Plains | 12,972,631
Northern Plains | 10,941,946
Southwest | 29,848,823
Northwest | 4,180,66
Alaska | 5,858,836
Total | $69,284,661

The Catalog of Federal Domestic Assistance number for the ICDBG Program is 14.862.

In accordance with section 102 (a)(4)(C) of the Department of Housing and Urban Development Reform Act of 1989 (103 Stat.1987, 42 U.S.C. 3545), the Department is publishing the names, addresses, and amounts of the 108 awards made under the various regional competitions in Appendix A to this document.

Dated: August 2, 2002.
Michael Liu,
Assistant Secretary for Public and Indian Housing.

Appendix A.—2001 Indian Community Development Block Grant Awards
Cherokee Nation, P.O. Box 948, Tahlequah, OK 74465 | $750,000
Cheyenne-Arapaho Tribes of Oklahoma, P.O. Box 68, Concho, OK 73022 | 750,000
Chitimacha Tribe of Louisiana, P.O. Box 661, Charenton, LA 70523 | 750,000
Choctaw Nation of Oklahoma, P.O. Drawer 1210, Durant, OK 74702 | 750,000
Chickasaw Nation, P.O. Box 1548, Ada, OK 74821 | 750,000
Citizen Potawatomi Nation, 1601 S. Gordon Cooper Drive, Shawnee, OK 74801 | 750,000
Delaware Tribe of Oklahoma, 220 N.W. Virginia Ave., Bartlesville, OK 74003 | 750,000
Iowa Tribe of Oklahoma, RR1, Box 721, Perkins, OK 74059 | 409,376
Kialeegee Tribal Town, P.O. Box 332, Wetumka, OK 74883 | 313,790
Muscogee Creek Nation, P.O. Box 580, Okmulgee, OK 74447 | 750,000
Osage Tribe, 627 Grandview, Pawhuska, OK 74056 | 600,000
Ottawa Tribe of Oklahoma, P.O. Box 110, Miami, OK 74355 | 750,000
Ponca Tribal Business Committee, 20 White Eagle Drive, Ponca City, OK 74601 | 750,000
Sac & Fox Nation of Oklahoma, Route 2, Box 246, Stroud, OK 74079 | 750,000
Seminole Nation of Oklahoma, P.O. Box 1498, Wewoka, OK 74884 | 750,000
Seneca-Cayuga Tribe of Oklahoma, P.O. Box 1283, Miami, OK 74355 | 750,000
Thlopthlocco Tribal Town, P.O. Box 188, Okemah, OK 74859 | 528,000
Tunica-Biloxi Tribe of Louisiana, P.O. Box 331, Marksville, LA 71351 | 750,000
Wichita and Affiliated Tribes, P.O. Box 729, Anadarko, OK 73005 | 749,986
Ak-Chin Indian Reservation, 42507 West Peters & Nall Road, Maricopa, AZ 85239 | 550,000
Big Valley Rancheria of Pomo and Pit River Indians, 2726, Rancheria Road, Lakeport, CA 95453 | 550,000
Blue Lake Rancheria, P.O. Box 428, Blue Lake, CA 95525 | 550,000
Chemehuevi Indian Tribe, P.O. Box 1976, Chemehuevi Valley, CA 92363 | 550,000
Colusa Indian Community, 3730 Highway 45, Colusa, CA 95932 | 550,000
Cortina Indian Rancheria of Wintun Indians, P.O. Box 1630, Williams, CA 95987 | 120,000
Duck Valley Shoshone-Paiute Tribe, P.O. Box 219, Owyhee, NV 89832 | 550,000
Duckwater Shoshone Tribe, P.O. Box 140068, Duckwater, NV 89314 | 270,318
Ely Shoshone Tribe, 16 Shoshone Circle, Ely, NV 89301 | 550,000
Ft. Bidwell Paiute Indian Community, P.O. Box 129, Ft. Bidwell, CA 96112 | 536,000
La Posta Band of Diegueno Mission Indians, P.O. Box 1048, Boulevard, CA 91095 | 549,931
Las Vegas Tribe of Paiute Indians, One Paiute Drive, Las Vegas, NV 89106 | 550,000
Lone Pine Indian Tribe, P.O. Box 747, Lone Pine, CA 93545 | 550,000
Los Coyotes Band of Cahuilla Indians, P.O. Box 189, Warner Springs, CA 92086 | 550,000
Mooretown Rancheria of Maidu Indians, 1 Alverda Drive, Oroville, CA 95966 | 550,000
Navajo Nation, P.O. Box 9000, Window Rock, AZ 86515 | 5,000,000
North Fork Rancheria of Mono Indians, P.O. Box 929, North Fork, CA 93643 | 550,000
Pascua Yaqui Indian Tribe, 7474 South Camino de Oeste, Tucson, AZ 85746 | 2,500,000
Pinoleville Rancheria of Pomo Indians, 367 North State Street, Suite 204, Ukiah, CA 95482 | 390,636
Pueblo of Pojoaque, 39 Camino del Rincon, Suite 6, Santa Fe, NM 87501 | 550,000
Ramona Band of Cahuilla Band of Mission Indians, P.O. Box 391372, Anza, CA 92539 | 550,000
Redding Rancheria, 2000 Redding Rancheria, Redding, CA 96001 | 550,000
Reno-Sparks Indian Colony, 98 Colony Road, Reno, NV 89502 | 550,000
Rincon Band of Luiseno Mission Indians, P.O. Box 68, Valley Center, CA 92082 | 550,000
Round Valley Indian Tribe, P.O. Box 448, Covelo, CA 95428 | 522,050
Salt River Pima-Maricopa Indian Community, 10005 East Osborn Road, Scottsale, AZ 85256 | 2,000,000
San Pasqual Band of Diegueno Mission Indians, P.O. Box 365, Valley Center, CA 92082 | 550,000
Santa Rosa Band of Cahuilla Mission Indians, 325 North Western Avenue, Hemet, CA 92543 | 550,000
Santa Ysabel Band of Diegueno Mission Indians, P.O. Box 130, Santa Ysabel, CA 92070 | 550,000
Sherwood Valley Rancheria of Pomo Indians, 190 Sherwood Hill Drive, Willits, CA 95490 | 550,000
Smith River Rancheria, 250 North Indian Road, Smith River, CA 95567 | 550,000
Timbisha Shoshone Tribe, P.O. Box 206, Death Valley, CA 92328 | 550,000
Torres-Martinez Band of Cahuilla Indians, P.O. Box 1160, Thermal, CA 92274 | 550,000
White Mountain Apache Tribe, P.O. Box 700, Whiteriver, AZ 85941 | 2,500,000
Yavapai Apache Nation, P.O. Box 1188, Camp Verde, AZ 86322 | 550,000
Yurok Tribe of the Hoopa Valley Reservation, 1034 6th Street, Eureka, CA 95501 | 550,000
Crow Creek Sioux Tribe, P.O. Box 50, Fort Thompson, SD 57339 | 607,000
Crow Tribe of Montana, P.O. Box 159, Crow Agency, MT 59022, | 800,000,
Fort Peck Assiniboine & Sioux Tribe, P.O. Box 1027, Poplar, MT 59255 | 500,000
Lower Brule Sioux Tribe, P.O. Box 187, Lower Brule, SD 57548 | 743,750
Northern Arapaho Tribe, P.O. Box 396, Fort Washakie, WY 82514 | 735,000
Rocky Boy Chippewa-Cree Tribe, P.O. Box 544, Box Elder, MT 59521 | 800,000
Rosebud Sioux Tribe, P.O. Box 430, Rosebud, SD 57570 | 800,000
Santee Sioux Tribe, 425 Frazier Avenue North, Suite 2, Niobrara, NE 68760 | 800,000
Shoshone Tribe of Wind River, P.O. Box 538, Fort Washakie, WY 82514 | 800,000
Sisseton-Wahpeton Sioux Tribe, P.O. Box 509, Agency Village, SD 57262 | 800,000
Standing Rock Sioux Tribe, P.O. Box D, Fort Yates, ND 58538 | 800,000
Turtle Mountain Band of Chippewa Tribe, P.O. Box 900, Belcourt, ND 58316 | 798,521
Paiute Indian Tribe of Utah, 440 North Paiute Drive, Cedar City, UT 84720 | 377,230
Ute Mountain Tribe, P.O. Box 248, Towaoc, CO 81334 | 800,000
Yankton Sioux Tribe, P.O. Box 248, Marty, SD 57361 | 800,000
Bois Forte Reservation, P.O. Box 16, Nett Lake, MN 55772 | 500,000
Ho-Chunk Nation, W9814 Airport Road, P.O. Box 667, Black River Falls, WI 54615 | 500,000
Keweenaw Bay Indian Community, 107 Beartown Road, Baraga, MI 49908 | 500,000
Lac du Flambeau Band of Lake Superior Chippewa Indians, P.O. Box 67, Lac du Flambeau, WI 54538 | 500,000
Lac Courte Oreilles Tribal Governing Board, 13394 W. Trepania Road, Hayward, WI 54843 | 500,000
Little River Band of Ottawa Indians, 375 River Street, Manistee, MI 49660 | 500,000
Little Traverse Bay Bands of Odawa Indians, 915 Emmet Street—P.O. Box 246, Petoskey, MI 49770 | 500,000
Menominee Indian Tribe of Wisconsin, P.O. Box 910, Keshena, WI 54135 | 68,000
Poarch Band of Creek Indians, 5811 Jack Springs Road, Atmore, AL 36502 | 500,000
Seminole Tribe of Florida, 6300 Stirling Road, Hollywood, FL 33024 | 500,000
Stockbridge-Munsee Community, N8476 Mo He Con Nuck Road, Bowler, WI 54416 | 500,000
White Earth Reservation Tribal Council, P.O. Box 418, White Earth, MN 56591 | 500,000
Colville Confederated Tribes, P.O. Box 5, Coulee Dam, WA 99116 | 350,000
Shoalwater Bay Indian Tribe, P.O. Box 130, Tokeland, WA 98590 | 348,000
Quileute Indian Tribe, P.O. Box 279, LaPush, WA | 350,000
Confederate Tribes of the Umatillla Reservation, P.O. Box 638, Pendleton, OR 97801 | 350,000
Samish Indian Nation, P.O. Box 217, Anacortes, WA 98221 | 350,000
Skokomish Indian Tribe, N. 100 Tribal Center Road, Shelton, WA 98584 | 350,000
Spokane Tribe of Indians, P.O. Box 100, Wellipinit, WA 99040 | 350,000
Quinault Indian Nation, P.O. Box 159, Taholah, WA 98587 | 350,000
The Suquamish Tribe, P.O. Box 498, Suquamish, WA 98392 | 282,000
Makah Indian Tribe, P.O. Box 115, Neah Bay, WA 98357 | 100,000
Confederated Tribes of Warm Springs, P.O. Box C, Warm Springs, OR 97761 | 350,000
Snoqualmie Tribe, P.O. Box 670, Fall City, WA 98024 | 350,000
Lummi Indian Business Council, 2616 Kwina Road, Bellingham, WA 98226 | 285,664
Iqurmiut Tribal Council, P.O. Box 9, Russian Mission, AK 99657 | 230,000
Shageluk IRA Tribal Council, P.O. Box 35, Shageluk, AK 99665 | 250,000
Pilot Station Native Village, P.O. Box 5119, Pilot Station, AK 99650 | 215,000
Native Village of Nanwalek, P.O. Box 8065, Nanwalek, AK 99603-6665 | 500,000
Seldovia Village Tribe, P.O. Drawer L, Seldovia, AK 99663 | 500,000
Native Village of Elim, P.O. Box 39070, Elim, AK 99739 | 500,000
Qagan Tayagungin Tribe, Box 447, Sand Point, AK 99661 | 500,000
Unga Tribe, Box 508, Sand Point, AK 99661 | 500,000
Native Village of Mekoryuk, P.O. Box 66, Mekoryuk, AK 99630 | 469,593
Tanacross Village Council, P.O. Box 76009, Tanacross, AK 99776 | 500,000
Valdez Native Tribe, P.O. Box 1108, Valdez, AK 99686 | 500,000
Tetlin, P.O. Box TTL, Tetlin, AK 99779 | 500,000
Venetie Village Council, P.O. Box 81119, Venetie, AK 99781 | 500,000

[FR Doc. 02-20394 Filed 8-12-02; 8:45 am]

BILLING CODE 4210-33-P